DEPARTMENT OF STATE

[Public Notice 8753]

Determination by the Secretary of State Relating to Iran Sanctions

AGENCY: Department of State.

This notice is to inform the public that the Secretary of State determined on May 27, 2014, pursuant to Section 1245(d)(4)(D) of the National Defense Authorization Act for Fiscal Year 2012 (NDAA) (Pub. L. 112-81), as amended by the Iran Threat Reduction and Syria Human Rights Act (Pub. L. 112-158), that as of May 27, 2014, each of the following purchasers of oil from Iran has qualified for the 180-day exception outlined in section 1245(d)(4)(D): Malaysia, Singapore, South Africa. The Secretary of State last made exception determinations under Section 1245(d)(4)(D) of the NDAA regarding these purchasers on November 29, 2013.

FOR FURTHER INFORMATION CONTACT: Amos J. Hochstein, Deputy Assistant Secretary of State, Bureau of Energy Resources, (202) 736-7873.

Amos J. Hochstein,
Deputy Assistant Secretary of State, Bureau of Energy Resources, Department of State.

[FR Doc. 2014-12811 Filed 6-2-14; 8:45 am]

BILLING CODE 4710-07-P